DEPARTMENT OF COMMERCE

National Oceanic and Atmospheric Administration

RIN 0648-XD906

Western Pacific Fishery Management Council; Public Meetings

AGENCY: National Marine Fisheries Service (NMFS), National Oceanic and Atmospheric Administration (NOAA), Commerce.

ACTION: Notice of public meetings.

SUMMARY: The Western Pacific Fishery Management Council (Council) will convene a meeting of the Risk of Overfishing (denoted by P*) Working Group (P* WG) for the Main Hawaiian Island Deep 7 Bottomfish Fishery. The P* WG will review the P* dimensions and criteria, provide new scores (as appropriate), and recommend an appropriate risk of overfishing levels. This will be the basis for the specification of Acceptable Biological Catch (ABC) levels for the Scientific and Statistical Committee (SSC) to consider.

DATES: The P* WG meeting will be on May 6, 2015. For specific times and agendas, see SUPPLEMENTARY INFORMATION.

ADDRESSES: The P* WG meeting will be held at the Council office, 1164 Bishop Street, Suite 1400, Honolulu, HI 96813; telephone: (808) 522-8220.

FOR FURTHER INFORMATION CONTACT: Kitty M. Simonds, Executive Director; telephone: (808) 522-8220.

SUPPLEMENTARY INFORMATION: Public comment periods will be provided. The order in which agenda items are addressed may change. The meetings will run as late as necessary to complete scheduled business.

Schedule and Agenda for the P* WG Meeting

May 6, 2015—10 a.m.-4 p.m.

1. Introductions

2. Recommendations from previous Council meetings

3. Overview of the P* process

4. State of the Science for the Main Hawaiian Island Deep 7 Bottomfish

a. Summary of comments from the Center for Independent Expert reviewers affecting uncertainties

b. Report on assessment update using 2011 model with 3 years of data

5. Review of the P* Dimensions and Criteria

a. Assessment information

b. Uncertainty characterization

c. Stock status

d. Productivity and susceptibility

6. Working group revision of criteria (if needed)

7. Working group re-scoring session

8. General discussion

9. Public comment

10. Summary of scores and P* recommendations

Special Accommodations

These meetings are physically accessible to people with disabilities. Requests for sign language interpretation or other auxiliary aids should be directed to Kitty M. Simonds, (808) 522-8220 (voice) or (808) 522-8226 (fax), at least five days prior to the meeting date.

Authority: 16 U.S.C. 1801 et seq.

Dated: April 16, 2015.
Tracey L. Thompson,
Acting Deputy Director, Office of Sustainable Fisheries, National Marine Fisheries Service.

[FR Doc. 2015-09195 Filed 4-20-15; 8:45 am]

BILLING CODE 3510-22-P